DEPARTMENT OF LABOR

Occupational Safety and Health Administration

Susan Harwood Training Grant Program, Workplace Safety and Health Training on Infectious Diseases, Including COVID-19 Grants; Availability of Funds and Funding Opportunity Announcement

AGENCY: Occupational Safety and Health Administration (OSHA), Department of Labor.

ACTION: Notice of availability of funds and funding opportunities.

SUMMARY: This notice announces availability of $10,000,000 for Susan Harwood Training Grant Program Workplace Safety and Health Training on Infectious Diseases, Including COVID-19 grants for non-profit organizations to conduct training for employers and workers on infectious diseases, including COVID-19 safety and health hazards in the workplace.

DATES: Grant applications for Susan Harwood Training Program Workplace Safety and Health Training on Infectious Diseases, including COVID-19 grants must be received electronically by the Grants.gov system no later than 11:59 p.m., ET, on July 26, 2021.

ADDRESSES: The complete Susan Harwood Training Grant Program funding opportunity announcement and all information needed to apply are available at the Grants.gov website, www.grants.gov.

FOR FURTHER INFORMATION CONTACT: Questions regarding the funding opportunity announcement should be emailed to HarwoodGrants@dol.gov or Donna Robertson, Harwood Program Coordinator by telephone at 847-725-7805. Personnel will not be available to answer questions after 5:00 p.m., ET. To obtain further information on the Susan Harwood Training Grant Program, visit the OSHA website at www.osha.gov/harwoodgrants. Questions regarding Grants.gov should be emailed to Support@grants.gov or directed to Applicant Support toll free at 1-800-518-4726. Applicant Support is available 24 hours a day, 7 days a week except Federal holidays.

SUPPLEMENTARY INFORMATION: Funding Opportunity Number: SHTG-FY-21-05 (Workplace Safety and Health Training on Infectious Diseases, Including COVID-19).

Catalog of Federal Domestic Assistance Number: 17.502.

Authority and Signature

James S. Frederick, Acting Assistant Secretary of Labor for Occupational Safety and Health, directed the preparation of this notice. The authority for this notice is Section 21 of the Occupational Safety and Health Act of 1970, (29 U.S.C. 670), Public Law 113-235, and Secretary of Labor's Order No. 8-2020 (85 FR 58393, September 18, 2020).

Signed at Washington, DC.
James S. Frederick,
Acting Assistant Secretary of Labor for Occupational Safety and Health.

[FR Doc. 2021-13266 Filed 6-23-21; 8:45 am]

BILLING CODE 4510-26-P